DEPARTMENT OF JUSTICE

Bureau of Alcohol, Tobacco, Firearms and Explosives

[OMB 1140-0040]

Agency Information Collection Activities; Proposed eCollection of eComments Requested; Application for Amended Federal Firearms License—ATF Form 5300.38

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The information collection (IC) OMB 1140-0040 (Application for Amended Federal Firearms License—ATF F 5300.38) is being revised due to material changes to the form, such as added verbiage, added fill spaces for select questions, check box removal and revised contact information. There is also an increase in the annual cost burden due to the postal rate change since the last renewal in 2019. The proposed information collection is also being published to obtain comments from the public and affected agencies.

DATES: Comments are encouraged and will be accepted for 60 days until June 16, 2023.

FOR FURTHER INFORMATION CONTACT: If you have additional comments regarding the estimated public burden or associated response time, suggestions, or need a copy of the proposed information collection instrument with instructions, or additional information, contact: Leslie Anderson, Program Analyst, Federal Firearms Licensing Center by mail at 244 Needy Rd, Martinsburg, WV 25405, email at Leslie.anderson@atf.gov or telephone at 304-616-4634.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection (check justification or form 83): Revision of a currently approved collection.

(2) The Title of the Form/Collection: Application for Amended Federal Firearms License.

(3) The agency form number, if any, and the applicable component of the Department sponsoring the collection:

Form number (if applicable): ATF Form 5300.38.

Component: Bureau of Alcohol, Tobacco, Firearms and Explosives, U.S. Department of Justice.

(4) Affected public who will be asked or required to respond, as well as a brief abstract:

Primary: Business or other for-profit.

Other (if applicable): Individuals or households.

Abstract: Section 922 of chapter 44 of title 18 requires persons wishing to be licensed under a new business address to complete ATF Form 5300.38 to certify compliance with the provisions of the law for the new address.

(5) An estimate of the total number of respondents and the amount of time estimated for an average respondent to respond: An estimated 10,000 respondents will utilize the form annually and it will take each respondent approximately 30 minutes to complete their responses.

(6) An estimate of the total public burden (in hours) associated with the collection: The estimated annual public burden associated with this collection is 5,000 (hours) which is equal to 10,000 (total respondents) * 1 (# of response per respondent) * .5 (30 minutes).

(7) An Explanation of the Change in Estimates: The annual cost has increased due to a change in the postal rate from $0.50 during the last renewal in 2019, to $0.63 in 2023. Subsequently, the public cost burden increased by $1,300 from $5,000 in 2019 to $6,300 in 2023.

If additional information is required contact: John Carlson, Department Clearance Officer, Policy and Planning Staff, Office of the Chief Information Officer, United States Department of Justice, Justice Management Division, Two Constitution Square, 145 N Street NE, Mail Stop 3.E-206, Washington, DC 20530.

Dated: April 11, 2023.
John Carlson,
Department Clearance Officer, Policy and Planning Staff, U.S. Department of Justice.

[FR Doc. 2023-07979 Filed 4-14-23; 8:45 am]

BILLING CODE 4410-FY-P